DEPARTMENT OF ENERGY

Federal Energy Regulatory Commission

[Docket Nos. EG00-96-000, EG00-95-000 and EG00-97-000]

Mexican Business Trust No. 111014-6, et al; Notice of Amendment to Application for Commission Determination of Exempt Wholesale Generator Status

March 10, 2000.

Take notice that on March 8, 2000, Mexican Business Trust No. 111014-6 (the Trust); Banco Nacional de México, S.A., Institución de Banca Múltiple División Fiduciaria, Grupo Financiero Banamex-Accival (the “Trustee” under Mexican Business Trust No. 111014-6); and Termoeléctrica del Golfo, S. de R.L. de C.V. (TEG and together with the Trust and Trustee, Applicants), tendered for filing with the Federal Energy Regulatory Commission an amendment to their application for determination of exempt wholesale generator status pursuant to Part 365 of the Commission's regulations.

Any person desiring to be heard concerning the amended application for exempt wholesale generator status should file a motion to intervene or comments with the Federal Energy Regulatory Commission, 888 First Street, NE, Washington, DC 20426, in accordance with Rules 211 and 214 of the Commission's Rules of Practice and Procedure (18 CFR 385.211 and 385.214). The Commission will limit its consideration of comments to those that concern the adequacy of the amended application. All such motions and comments should be filed on or before March 31, 2000, and must be served on the applicant. Any person wishing to become a party must file a motion to intervene. Copies of this filing are on file with the Commission and are available for public inspection or on the Internet at http://www.ferc.fed.us/online/rims.htm (please call (202) 208-2222 for assistance).

David P. Boergers,
Secretary.

[FR Doc. 00-6452 Filed 3-15-00; 8:45 am]

BILLING CODE 6717-01-M